DEPARTMENT OF COMMERCE

National Telecommunications and Information Administration

First Responder Network Authority Board Meeting

AGENCY: National Telecommunications and Information Administration, U.S. Department of Commerce.

ACTION: Notice of Open Public Meeting of the First Responder Network Authority.

SUMMARY: The Board of the First Responder Network Authority (FirstNet) will convene open public meetings of the Board Committees on December 16, 2013.

DATES: The meeting will be held on December 16, 2013 between 2:00 p.m. and 5:00 p.m. Mountain Standard Time. There will be sequential meetings of FirstNet's four committees: (1) Governance and Personnel Committee; (2) Finance, Audit and Budget Committee; (3) Planning and Technology Committee; and (4) Outreach Committee.

ADDRESSES: FirstNet's committee members will meet in Grand Ballroom 1 of the DoubleTree by Hilton Denver, 3203 Quebec Street, Denver, Colorado 80207.

FOR FURTHER INFORMATION CONTACT: Uzoma Onyeije, Secretary, FirstNet, National Telecommunications and Information Administration, U.S. Department of Commerce, 1401 Constitution Avenue NW., Washington, DC 20230: telephone (202) 482-0016; email uzoma@firstnet.gov. Please direct media inquiries to NTIA's Office of Public Affairs, (202) 482-7002.

SUPPLEMENTARY INFORMATION: This notice informs the public that four Board committees of the FirstNet Board are scheduled to meet on December 16, 2013, in Denver, Colorado.

Background: The Middle Class Tax Relief and Job Creation Act of 2012 (Act), Public Law 112-96, 126 Stat. 156 (2012), created the First Responder Network Authority (FirstNet) as an independent authority within the National Telecommunications and Information Administration (NTIA). The Act directs FirstNet to establish a single nationwide, interoperable public safety broadband network. The FirstNet Board is responsible for making strategic decisions regarding FirstNet's operations. The FirstNet Board held its first public meeting on September 25, 2012.

Matters To Be Considered: NTIA will post a detailed agenda for each committee meeting on its Web site, http://www.ntia.doc.gov, prior to December 16, 2013. The agenda topics are subject to change. The committees may, by a majority vote, close a portion of their meetings as necessary to preserve the confidentiality of commercial or financial information that is privileged or confidential, to discuss personnel matters, or to discuss legal matters affecting FirstNet, including pending or potential litigation. See 47 U.S.C. 1424(e)(2).

Time and Date: The meetings of the Governance and Personnel Committee, the Finance, Audit and Budget Committee, the Planning and Technology Committee and the Outreach Committee will be held on December 16, 2013, from 2:00 p.m. to 5:00 p.m. Mountain Standard Time. The times are subject to change.

Place: Board members will meet in Grand Ballroom 1 of the DoubleTree by Hilton Denver, 3203 Quebec Street, Denver, Colorado 80207. Please refer to NTIA's Web site at http://www.ntia.doc.gov/category/firstnet for the most current information.

Other Information: These meetings are open to the public and press. Given the space limitations of the meeting room, members of the public wishing to attend the meetings in person will be directed to Crystal Ballroom 1 of the DoubleTree by Hilton Denver, 3203 Quebec Street, Denver, Colorado 80207, where they can observe the meetings by video. The meetings are accessible to people with disabilities. Individuals requiring accommodations, such as sign language interpretation or other ancillary aids, are asked to notify Uzoma Onyeije, Secretary, FirstNet, at (202) 482-0016 or uzoma@firstnet.gov at least five (5) business days before the meeting.

The meetings will also be webcast. Please refer to NTIA's Web site at http://www.ntia.doc.gov/category/firstnet for webcast instructions and other information. If you have technical questions regarding the webcast, please contact Charles Franz at cfranz@ntia.doc.gov.

Records: NTIA maintains records of all Board proceedings. Board minutes will be available at http://www.ntia.doc.gov/category/firstnet.

Dated: November 27, 2013.
Milton Brown,
Deputy Chief Counsel.

[FR Doc. 2013-28935 Filed 12-2-13; 8:45 am]

BILLING CODE 3510-60-P